DEPARTMENT OF HOMELAND SECURITY

Transportation Security Administration

[Docket No. TSA-2006-26514]

Extension of Agency Information Collection Activity Under OMB Review: Rail Transportation Security

AGENCY: Transportation Security Administration, DHS.

ACTION: 30-day Notice.

SUMMARY: This notice announces that the Transportation Security Administration (TSA) has forwarded the Information Collection Request (ICR), Office of Management and Budget (OMB) control number 1652-0051, abstracted below to OMB for review and approval of an extension of the currently approved collection under the Paperwork Reduction Act (PRA). The ICR describes the nature of the information collection and its expected burden. TSA published a Federal Register notice, with a 60-day comment period soliciting comments, of the following collection of information on January 13, 2012, 77 FR 2077. The collection involves the submission of contact information of Rail Security Coordinators and alternate Rail Security Coordinators from freight railroad carriers; shippers and receivers of certain hazardous materials; and passenger railroad carriers, including each carrier operating light rail or heavy rail transit service on track that is part of the general railroad system of transportation and rail transit systems. Also, these persons are required to report significant security concerns, including security incidents, suspicious activity, and any threat information. In addition, freight railroad carriers and the affected shippers and receivers of hazardous materials are required to document the transfer of custody of certain hazardous materials and provide location and shipping information for certain rail cars.

DATES: Send your comments by May 2, 2012. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Rail Transportation Security.

Type of Request: Extension of a currently approved collection.

OMB Control Number: 1652-0051.

Forms(s): N/A.

Affected Public: Rail.

Abstract: TSA will continue to collect information from regulated parties on rail security coordinators and significant security concerns. TSA further requires freight rail carriers and certain facilities handling specified hazardous materials be able to report location and shipping information to TSA upon request; these regulated parties must also implement chain of custody and control requirements to ensure a positive and secure exchange of the specified hazardous materials listed in 49 CFR 1580.100(b), and make the reports available to TSA upon request.

Number of Respondents: 1,984.

Estimated Annual Burden Hours: An estimated 54,023 hours annually.

Issued in Arlington, Virginia, on March 23, 2012.
Joanna Johnson,
TSA Paperwork Reduction Act Officer, Office of Information Technology.

[FR Doc. 2012-7751 Filed 3-30-12; 8:45 am]

BILLING CODE 9110-05-P